DEPARTMENT OF AGRICULTURE

Forest Service

Lake Tahoe Basin Federal Advisory Committee; Meeting

AGENCY: Forest Service, USDA.

ACTION: Notice of meeting.

SUMMARY: The Lake Tahoe Basin Federal Advisory Committee will hold a meeting October 17, 2000, at the Tahoe City Public Utility District Board Room, 221 Fairway Drive, Tahoe City, California 96145. This committee, established by the Secretary of Agriculture June 23, 2000 (65 FR 44519), is chartered to provide advice to the Secretary on implementing the terms of the Federal Interagency Partnership at Lake Tahoe and on other matters raised by the Secretary.

DATES AND TIME: The meeting will be held October 17, 2000, beginning at 9 a.m. and ending at 4 p.m. Public comment period is scheduled for 2 p.m.

ADDRESSES: The meeting will be held at the Tahoe City Public Utility District Board Room, 221 Fairway Drive, Tahoe City, California 96145.

FOR FURTHER INFORMATION CONTACT: Maribeth Gustafson or Sue Fitzgerald, Lake Tahoe Basin Management Unit, Forest Service, 870 Emerald Bay Road, Suite 1, South Lake Tahoe, CA 96150; (530) 573-2773.

SUPPLEMENTARY INFORMATION: Items to be covered on the agenda include:

(1) Agenda Review

(2) Budget Subcommittee Report

(3) Legislative Update

(4) Update on the Federal Partnership Actions Progress Report

(5) Update on the U.S. Fish & Wildlife Service's proposal to list the Tahoe Yellow Cress As an Endangered Species

(6) Update on the Environmental Improvement Program

(7) Discussion on the need for a communications subcommittee

(8) Discussion on possible amendments to the Lake Tahoe Basin Federal Advisory Committee consensus process

(9) Public comment.

All Lake Tahoe Basin Federal Advisory Committee meetings are open to the public. Interested citizens are encouraged to attend. Issues may be brought to the attention of the committee during the open public comment period at the meeting or by filing written statements with the secretary for committee before or after the meeting. Please refer any written comments to the Lake Tahoe Basin Management Unit at the contact address above.

Late Notice: Owing to staff transition and shortages at the Lake Tahoe Basin related to this year's extremely heavy fire season in the western states, this notice is being filed under the usual 15-day notification period.

Dated: October 2, 2000.
Maribeth Gustafson,
Forest Supervisor.

[FR Doc. 00-25690 Filed 10-5-00; 8:45 am]

BILLING CODE 3410-11-M